AFRICAN DEVELOPMENT FOUNDATION

Board of Directors Meeting

Meeting: African Development Foundation, Board of Directors Meeting.

Time: Tuesday, February 3, 2009, 9 a.m. to 1 p.m.

Place: African Development Foundation, Conference Room, 1400 I Street, NW., Suite 1000, Washington, DC 20005.

Dates: Tuesday, February 3, 2009.

Status:

1. Open session, Tuesday, February 3, 2009, 9 a.m. to 12:05 p.m.; and

2. Executive session, Tuesday, February 3, 2009, 12:10 p.m. to 1 p.m.

Due to security requirements and limited seating, all individuals wishing to attend the open session of the meeting must notify Doris Martin, General Counsel, at (202) 673-3916 or Michele M. Rivard at mrivard@usadf.gov of your request to attend by 4 p.m. on Friday, January 30, 2009.

Lloyd O. Pierson,
President.

[FR Doc. E9-1752 Filed 1-26-09; 8:45 am]

BILLING CODE 6117-01-P